ENVIRONMENTAL PROTECTION AGENCY

40 CFR Part 55

[OAR-2004-0091; FRL-9284-6]

Outer Continental Shelf Air Regulations; Consistency Update for California

AGENCY: Environmental Protection Agency (“EPA”).

ACTION: Proposed rule.

SUMMARY: EPA is proposing to update a portion of the Outer Continental Shelf (“OCS”) Air Regulations. Requirements applying to OCS sources located within 25 miles of States' seaward boundaries must be updated periodically to remain consistent with the requirements of the corresponding onshore area (“COA”), as mandated by section 328(a)(1) of the Clean Air Act, as amended in 1990 (“the Act”). The portion of the OCS air regulations that is being updated pertains to the requirements for OCS sources for which the Santa Barbara County Air Pollution Control District (“Santa Barbara APCD” or “District”) is the designated COA. The intended effect of approving the OCS requirements for the Santa Barbara APCD is to regulate emissions from OCS sources in accordance with the requirements onshore. The changes to the existing requirements discussed below are proposed to be incorporated by reference into the Code of Federal Regulations and listed in the appendix to the OCS air regulations.

DATES: Any comments must arrive by April 21, 2011.

ADDRESSES: Submit comments, identified by docket number OAR-2004-0091, by one of the following methods:

1. Federal eRulemaking Portal: http://www.regulations.gov. Follow the on-line instructions.

2. E-mail: steckel.andrew@epa.gov.

3. Mail or deliver: Andrew Steckel (Air-4), U.S. Environmental Protection Agency Region IX, 75 Hawthorne Street, San Francisco, CA 94105-3901.

Instructions: All comments will be included in the public docket without change and may be made available online at http://www.regulations.gov, including any personal information provided, unless the comment includes Confidential Business Information (CBI) or other information whose disclosure is restricted by statute. Information that you consider CBI or otherwise protected should be clearly identified as such and should not be submitted through http://www.regulations.gov or e-mail. http://www.regulations.gov is an “anonymous access” system, and EPA will not know your identity or contact information unless you provide it in the body of your comment. If you send e-mail directly to EPA, your e-mail address will be automatically captured and included as part of the public comment. If EPA cannot read your comment due to technical difficulties and cannot contact you for clarification, EPA may not be able to consider your comment. Electronic files should avoid the use of special characters, any form of encryption, and be free of any defects or viruses.

Docket: The index to the docket for this action is available electronically at http://www.regulations.gov and in hard copy at EPA Region IX, 75 Hawthorne Street, San Francisco, California. While all documents in the docket are listed in the index, some information may be publicly available only at the hard copy location (e.g., copyrighted material), and some may not be publicly available in either location (e.g., CBI). To inspect the hard copy materials, please schedule an appointment during normal business hours with the contact listed in the FOR FURTHER INFORMATION CONTACT section.

FOR FURTHER INFORMATION CONTACT: Cynthia G. Allen, Air Division (Air-4), U.S. EPA Region 9, 75 Hawthorne Street, San Francisco, CA 94105, (415) 947-4120, allen.cynthia@epa.gov.

SUPPLEMENTARY INFORMATION:

Table of Contents

I. Background and Purpose

II. EPA's Evaluation

III. Proposed Action

IV. Statutory and Executive Order Reviews

I. Background and Purpose

On September 4, 1992, EPA promulgated 40 CFR part 55,¹ which established requirements to control air pollution from OCS sources in order to attain and maintain Federal and State ambient air quality standards and to comply with the provisions of part C of title I of the Act. Part 55 applies to all OCS sources offshore of the States except those located in the Gulf of Mexico west of 87.5 degrees longitude. Section 328 of the Act requires that for such sources located within 25 miles of a State's seaward boundary, the requirements shall be the same as would be applicable if the sources were located in the COA. Because the OCS requirements are based on onshore requirements, and onshore requirements may change, section 328(a)(1) requires that EPA update the OCS requirements as necessary to maintain consistency with onshore requirements.

¹ See Notice of Proposed Rulemaking, December 5, 1991 (56 FR 63774), and the preamble to the final rule promulgated September 4, 1992 (57 FR 40792) for further background and information on the OCS regulations.

Pursuant to section 55.12 of the OCS rule, consistency reviews will occur (1) at least annually; (2) upon receipt of a Notice of Intent under section 55.4; or (3) when a State or local agency submits a rule to EPA to be considered for incorporation by reference in part 55. This proposed action is being taken in response to the submittal of requirements by the Santa Barbara County APCD. Public comments received in writing within 30 days of publication of this document will be considered by EPA before publishing a final rule.

Section 328(a) of the Act requires that EPA establish requirements to control air pollution from OCS sources located within 25 miles of States' seaward boundaries that are the same as onshore requirements. To comply with this statutory mandate, EPA must incorporate applicable onshore rules into part 55 as they exist onshore. This limits EPA's flexibility in deciding which requirements will be incorporated into part 55 and prevents EPA from making substantive changes to the requirements it incorporates. As a result, EPA may be incorporating rules into part 55 that do not conform to all of EPA's State implementation plan (SIP) guidance or certain requirements of the Act. Consistency updates may result in the inclusion of State or local rules or regulations into part 55, even though the same rules may ultimately be disapproved for inclusion as part of the SIP. Inclusion in the OCS rule does not imply that a rule meets the requirements of the Act for SIP approval, nor does it imply that the rule will be approved by EPA for inclusion in the SIP.

II. EPA's Evaluation

In updating 40 CFR part 55, EPA reviewed the rules submitted for inclusion in part 55 to ensure that they are rationally related to the attainment or maintenance of Federal or State ambient air quality standards or part C of title I of the Act, that they are not designed expressly to prevent exploration and development of the OCS and that they are applicable to OCS sources. 40 CFR 55.1. EPA has also evaluated the rules to ensure they are not arbitrary or capricious. 40 CFR 55.12(e). EPA has excluded rules that regulate toxics, which are not related to the attainment and maintenance of Federal and State ambient air quality standards.

EPA is soliciting public comments on the issues discussed in this document or on other relevant matters. EPA will consider these comments before taking final action. Interested parties may participate in the Federal rulemaking procedure by submitting written comments to the EPA Region IX Office listed in the ADDRESSES section of this Federal Register.

III. Proposed Action

1. After review of the requirements submitted by the Santa Barbara County APCD against the criteria set forth above and in 40 CFR part 55, EPA is proposing to make the following District requirements applicable to OCS sources. Earlier versions of these District rules are currently implemented on the OCS:

Rule No. | Name | Adoption or amended date
102 | Definitions | 1/20/11
202 | Exemptions to Rule 201 | 1/20/11
370 | Potential to Emit—Limitations for Part 70 Sources | 1/20/11
810 | Federal Prevention of Significant Deterioration (PSD) | 1/20/11
1301 | Part 70 Operating Permits—General Information | 1/20/11

IV. Statutory and Executive Order Reviews

A. Executive Order 12866: Regulatory Planning and Review

Under the Clean Air Act, the Administrator is required to establish requirements to control air pollution from OCS sources located within 25 miles of States' seaward boundaries that are the same as onshore air control requirements. To comply with this statutory mandate, EPA must incorporate applicable onshore rules into part 55 as they exist onshore. 42 U.S.C. 7627(a)(1); 40 CFR 55.12. Thus, in promulgating OCS consistency updates, EPA's role is to maintain consistency between OCS regulations and the regulations of onshore areas, provided that they meet the criteria of the Clean Air Act. Accordingly, this action simply proposes to update the existing OCS requirements to make them consistent with requirements onshore, without the exercise of any policy discretion by EPA. For that reason, this proposed action:

• Is not a “significant regulatory action” subject to review by the Office of Management and Budget under Executive Order 12866 (58 FR 51735, October 4, 1993);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, this proposed rule does not have Tribal implications as specified by Executive Order 13175 (65 FR 67249, November 9, 2000), because it does not have a substantial direct effect on one or more Indian Tribes, on the relationship between the Federal Government and Indian Tribes, or on the distribution of power and responsibilities between the Federal Government and Indian Tribes, nor does it impose substantial direct compliance costs on Tribal governments, nor preempt Tribal law.

Under the provisions of the Paperwork Reduction Act, 44 U.S.C. 3501 et seq., an agency may not conduct or sponsor, and a person is not required to respond to, a collection of information unless it displays a currently valid OMB control number. OMB has approved the information collection requirements contained in 40 CFR part 55 and, by extension, this update to the rules, and has assigned OMB control number 2060-0249. Notice of OMB's approval of EPA Information Collection Request (“ICR”) No. 1601.07 was published in the Federal Register on February 17, 2009 (74 FR 7432). The approval expires January 31, 2012. As EPA previously indicated (70 FR 65897-65898 (November 1, 2005)), the annual public reporting and recordkeeping burden for collection of information under 40 CFR part 55 is estimated to average 549 hours per response, using the definition of burden provided in 44 U.S.C. 3502(2).

List of Subjects in 40 CFR Part 55

Environmental protection, Administrative practice and procedure, Air pollution control, Hydrocarbons, Incorporation by reference, Intergovernmental relations, Nitrogen dioxide, Nitrogen oxides, Outer Continental Shelf, Ozone, Particulate matter, Permits, Reporting and recordkeeping requirements, Sulfur oxides.

Dated: March 9, 2011.
Jared Blumenfeld,
Regional Administrator, Region IX.

Title 40 of the Code of Federal Regulations, Part 55, is proposed to be amended as follows:

PART 55—[AMENDED]

1. The authority citation for part 55 continues to read as follows:

Authority: Section 328 of the Clean Air Act (42 U.S.C. 7401 et seq.) as amended by Public Law 101-549.

2. Section 55.14 is amended by revising paragraph (e)(3)(ii)(F) to read as follows:

§ 55.14 Requirements that apply to OCS sources located within 25 miles of States' seaward boundaries, by State.

* * * * *

(e) * * *

(3) * * *

(ii) * * *

(F) Santa Barbara County Air Pollution Control District Requirements Applicable to OCS Sources.

* * * * *

3. Appendix A to Part 55 is amended by revising paragraph (b)(6) under the heading “California” to read as follows:

Appendix A to Part 55—Listing of State and Local Requirements Incorporated by Reference Into Part 55, by State

* * * * *

California

* * * * *

(b) * * *

(6) The following requirements are contained in Santa Barbara County Air Pollution Control District Requirements Applicable to OCS Sources:

Rule 102 Definitions (Adopted 01/20/11)

Rule 103 Severability (Adopted 10/23/78)

Rule 106 Notice to Comply for Minor Violations (Repealed 01/01/2001)

Rule 107 Emergencies (Adopted 04/19/01)

Rule 201 Permits Required (Adopted 06/19/08)

Rule 202 Exemptions to Rule 201 (Adopted 01/20/11)

Rule 203 Transfer (Adopted 04/17/97)

Rule 204 Applications (Adopted 04/17/97)

Rule 205 Standards for Granting Permits (Adopted 04/17/97)

Rule 206 Conditional Approval of Authority to Construct or Permit to Operate (Adopted 10/15/91)

Rule 207 Denial of Application (Adopted 10/23/78)

Rule 210 Fees (Adopted 03/17/05)

Rule 212 Emission Statements (Adopted 10/20/92)

Rule 301 Circumvention (Adopted 10/23/78)

Rule 302 Visible Emissions (Adopted 10/23/78)

Rule 304 Particulate Matter-Northern Zone (Adopted 10/23/78)

Rule 305 Particulate Matter Concentration-Southern Zone (Adopted 10/23/78)

Rule 306 Dust and Fumes-Northern Zone (Adopted 10/23/78)

Rule 307 Particulate Matter Emission Weight Rate-Southern Zone (Adopted 10/23/78)

Rule 308 Incinerator Burning (Adopted 10/23/78)

Rule 309 Specific Contaminants (Adopted 10/23/78)

Rule 310 Odorous Organic Sulfides (Adopted 10/23/78)

Rule 311 Sulfur Content of Fuels (Adopted 10/23/78)

Rule 312 Open Fires (Adopted 10/02/90)

Rule 316 Storage and Transfer of Gasoline (Adopted 01/15/09)

Rule 317 Organic Solvents (Adopted 10/23/78)

Rule 318 Vacuum Producing Devices or Systems-Southern Zone (Adopted 10/23/78)

Rule 321 Solvent Cleaning Operations (Adopted 09/20/10)

Rule 322 Metal Surface Coating Thinner and Reducer (Adopted 10/23/78)

Rule 323 Architectural Coatings (Adopted 11/15/01)

Rule 324 Disposal and Evaporation of Solvents (Adopted 10/23/78)

Rule 325 Crude Oil Production and Separation (Adopted 07/19/01)

Rule 326 Storage of Reactive Organic Compound Liquids (Adopted 01/18/01)

Rule 327 Organic Liquid Cargo Tank Vessel Loading (Adopted 12/16/85)

Rule 328 Continuous Emission Monitoring (Adopted 10/23/78)

Rule 330 Surface Coating of Metal Parts and Products (Adopted 01/20/00)

Rule 331 Fugitive Emissions Inspection and Maintenance (Adopted 12/10/91)

Rule 332 Petroleum Refinery Vacuum Producing Systems, Wastewater Separators and Process Turnarounds (Adopted 06/11/79)

Rule 333 Control of Emissions from Reciprocating Internal Combustion Engines (Adopted 06/19/08)

Rule 342 Control of Oxides of Nitrogen (NOX) from Boilers, Steam Generators and Process Heaters) (Adopted 04/17/97)

Rule 343 Petroleum Storage Tank Degassing (Adopted 12/14/93)

Rule 344 Petroleum Sumps, Pits, and Well Cellars (Adopted 11/10/94)

Rule 346 Loading of Organic Liquid Cargo Vessels (Adopted 01/18/01)

Rule 352 Natural Gas-Fired Fan-Type Central Furnaces and Residential Water Heaters (Adopted 09/16/99)

Rule 353 Adhesives and Sealants (Adopted 08/19/99)

Rule 359 Flares and Thermal Oxidizers (Adopted 06/28/94)

Rule 360 Emissions of Oxides of Nitrogen from Large Water Heaters and Small Boilers (Adopted 10/17/02)

Rule 361 Small Boilers, Steam Generators, and Process Heaters (Adopted 01/17/08)

Rule 370 Potential to Emit—Limitations for Part 70 Sources (Adopted 01/20/11)

Rule 505 Breakdown Conditions Sections A.,B.1,. and D. only (Adopted 10/23/78)

Rule 603 Emergency Episode Plans (Adopted 06/15/81)

Rule 702 General Conformity (Adopted 10/20/94)

Rule 801 New Source Review (Adopted 04/17/97)

Rule 802 Nonattainment Review (Adopted 04/17/97)

Rule 803 Prevention of Significant Deterioration (Adopted 04/17/97)

Rule 804 Emission Offsets (Adopted 04/17/97)

Rule 805 Air Quality Impact Analysis and Modeling (Adopted 04/17/97)

Rule 808 New Source Review for Major Sources of Hazardous Air Pollutants (Adopted 05/20/99)

Rule 810 Federal Prevention of Significant Deterioration (Adopted 01/20/11)

Rule 1301 Part 70 Operating Permits—General Information (Adopted 01/20/11)

Rule 1302 Part 70 Operating Permits—Permit Application (Adopted 11/09/93)

Rule 1303 Part 70 Operating Permits—Permits (Adopted 11/09/93)

Rule 1304 Part 70 Operating Permits—Issuance, Renewal, Modification and Reopening (Adopted 11/09/93)

Rule 1305 Part 70 Operating Permits—Enforcement (Adopted 11/09/93)

* * * * *

[FR Doc. 2011-6673 Filed 3-21-11; 8:45 am]

BILLING CODE 6560-50-P